SECURITIES AND EXCHANGE COMMISSION

Submission for OMB Review; Comment Request

Upon Written Request Copies Available From: U.S. Securities and Exchange Commission, Office of FOIA Services, 100 F Street NE., Washington, DC 20549-2736.

New Information Collection:

Supplier Diversity Business Management System; SEC File No. 270-663, OMB Control No. 3235-XXXX.

Notice is hereby given that, pursuant to the Paperwork Reduction Act of 1995 (44 U.S.C. 3501 et seq.), the Securities and Exchange Commission (“Commission”) has submitted to the Office of Management and Budget a request to approve the collection of information discussed below.

The Commission is required under Section 342 of the Dodd Frank Wall Street and Reform Act to develop standards and procedures for ensuring the fair inclusion of minority-owned and women-owned businesses in all of the Commission's business activities. The Commission is also required to develop standards for coordinating technical assistance minority-owned and women-owned businesses. As part of its implementation of Section 342 of the Dodd-Frank Act, the Commission is developing a new electronic Supplier Diversity Business Management System (the System) to collect up-to-date business information and capabilities statements from diverse suppliers interested in doing business with the Commission. The information collected in the System will allow the Commission to update and more effectively manage its current internal repository of diverse suppliers. Further, the information in the System will also allow the Commission to measure the effectiveness of its technical assistance and outreach efforts, and target areas where additional program efforts are necessary.

Information will be collected in the System via web-based, e-filed, dynamic form-based technology. The company point of contact will complete a profile consisting of basic contact data and information on the capabilities of the business. The profile will include a series of questions, some of which are based on the data that the individual enters. Drop-down lists will be included where appropriate to increase ease of use.

The information collection is voluntary. The System is scheduled to be released in May 2015. There are no costs associated with this collection. The public interface to the System will be available via a web-link provided by the agency.

Estimated number of annual responses = 500

Estimated annual reporting burden = 250 hours (30 minutes per submission)

On January 27, 2015, the Commission published a 60-day notice in the Federal Register (80 FR 4320) requesting public comment on the proposed collection of information. The Commission received no comments.

Written comments continue to be invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Background documentation for this information collection may be viewed at the following Web site, www.reginfo.gov. Please direct general comments to the following persons: (i) Desk Officer for the Securities and Exchange Commission, Office of Management and Budget, Room 10102, New Executive Office Building, Washington, DC 20503 or send an email to Shagufta Ahmed at Shagufta_Ahmed@omb.eop.gov; and (ii) Pamela Dyson, Chief Information Officer, Securities and Exchange Commission, c/o Remi Pavlik-Simon, 100 F Street NE., Washington, DC 20549 or send an email to: PRA_Mailbox@sec.gov. Comments must be submitted within 30 days of this notice.

Dated: March 27, 2015.
Brent J. Fields,
Secretary.

[FR Doc. 2015-07464 Filed 3-31-15; 8:45 am]

BILLING CODE 8011-01-P